DEPARTMENT OF TRANSPORTATION

Pipeline and Hazardous Materials Safety Administration

49 CFR Parts 190, 191, 192, 195, and 199

[Docket No. PHMSA-2016-0032]

Pipeline Safety: Meeting of the Gas Pipeline Safety Advisory Committee and the Liquid Pipeline Safety Advisory Committee

AGENCY: Pipeline and Hazardous Materials Safety Administration (PHMSA), DOT.

ACTION: Notice of advisory committee meeting.

SUMMARY: This notice announces a public meeting of the Gas Pipeline Advisory Committee (GPAC), also known as the Technical Pipeline Safety Standards Committee, and the Liquid Pipeline Advisory Committee (LPAC), also known as the Technical Hazardous Liquid Pipeline Safety Standards Committee. The GPAC will meet to discuss a proposed rulemaking to address regulatory requirements involving plastic piping systems used in gas services and both committees will meet jointly to discuss a proposed rulemaking to strengthen the federal pipeline safety regulations and to address sections 9 (accident and incident reporting) and 13 (cost recovery for design-review work) of the Pipeline Safety, Regulatory Certainty, and Job Creation Act of 2011 (2011 Act). Both committees will also be briefed on the “Pipeline Safety: Safety of Gas Transmission and Gathering Pipelines” proposed rulemaking.

DATES: The committees will meet as follows:

• Wednesday, June 1, 2016, from 1:00 p.m. to 5:00 p.m., ET—GPAC only

• Thursday, June 2, 2016, from 8:30 a.m. to 5:00 p.m., ET—Joint Meeting (GPAC/LPAC)

• Friday, June 3, 2016, from 8:30 a.m. to 12:30 p.m., ET.—LPAC only

The meetings will not be webcast; however, presentations will be available on the meeting Web site and posted on the E-Gov Web site: http://www.regulations.gov under docket number PHMSA-2016-0032 within 30 days following the meeting.

ADDRESSES: The meeting will be held at a location yet to be determined in the Washington, DC Metropolitan area. The meeting location, agenda and any additional information will be published on the following pipeline advisory committee meeting and registration page at https://primis.phmsa.dot.gov/meetings/MtgHome.mtg?mtg=113.

Public Participation

This meeting will be open to the public. Members of the public who wish to attend in person are asked to RSVP to cheryl.whetsel@dot.gov with your name and affiliation no later than May 23, 2016, in order to facilitate entry and guarantee seating. Members of the public who attend in person will also be provided an opportunity to make a statement during the meeting.

Services for Individuals with Disabilities: The public meeting is physically accessible to people with disabilities. Individuals requiring accommodations, such as sign language interpretation or other ancillary aids, are asked to notify Cheryl Whetsel at cheryl.whetsel@dot.gov by May 23, 2016.

Written comments: Persons who wish to submit written comments on the meeting may be submitted to the docket in the following ways:

E-Gov Web site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-001.

Hand Delivery: Room W12-140 on the ground level of the DOT West Building, 1200 New Jersey Avenue SE., Washington, DC, between 9:00 a.m. and 5:00 p.m., Monday through Friday, except on Federal holidays.

Instructions: Identify the docket number PHMSA-2016-0032 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or view the Privacy Notice at http://www.regulations.gov before submitting any such comments.

Docket: For access to the docket or to read background documents or comments, go to http://www.regulations.gov at any time or to Room W12-140 on the ground level of the DOT West Building, 1200 New Jersey Avenue SE., Washington, DC, between 9 a.m. and 5 p.m., Monday through Friday, except Federal holidays.

If you wish to receive confirmation of receipt of your written comments, please include a self-addressed, stamped postcard with the following statement: “Comments on PHMSA-2016-0032.” The Docket Clerk will date stamp the postcard prior to returning it to you via the U.S. mail. Please note that due to delays in the delivery of U.S. mail to federal offices in Washington, DC, we recommend that persons consider an alternative method (Internet, fax, or professional delivery service) of submitting comments to the docket and ensuring their timely receipt at DOT.

Privacy Act Statement

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: For information about the meeting, contact Cheryl Whetsel by phone at 202-366-4431 or by email at cheryl.whetsel@dot.gov.

SUPPLEMENTARY INFORMATION:

I. Meeting Details and Agenda

The Pipeline and Hazardous Materials Safety Administration will hold meetings of the GPAC and LPAC. The GPAC will be considering and voting on the notice of proposed rulemaking (NPRM) titled: Pipeline Safety: Plastic Pipe Rule (80 FR 29263; May 21, 2015), and in a joint meeting of the GPAC and LPAC, members will consider and vote on the NPRM titled: Pipeline Safety: Operator Qualification, Cost Recovery, Accident and Incident Notification, and Other Pipeline Safety Proposed Changes (80 FR 39916; July 10, 2015). Other topics of discussion will include the regulatory agenda and agency and stakeholder priorities. A briefing on the NPRM, titled: Pipeline Safety: Safety of Gas Transmission and Gathering Pipelines (81 FR 20722; April 8, 2016), will also be presented to both committees and the public.

The agenda will be published to include committee discussions and votes on the two rules mentioned above. PHMSA staff will also brief the committees on several regulatory and policy initiatives.

II. Committee Background

The GPAC and LPAC are statutorily-mandated advisory committees that advise PHMSA on proposed safety standards, risk assessments, and safety policies for natural gas pipelines and for hazardous liquid pipelines. Both committees were established under the Federal Advisory Committee Act (Pub. L. 92-463, 5 U.S.C. App. 1) and the Pipeline Safety Law (49 U.S.C. Chap. 601). Each committee consists of 15 members—with membership evenly divided among the federal and state government, the regulated industry, and the public. The committees advise PHMSA on the technical feasibility, practicability, and cost-effectiveness of each proposed pipeline safety standard.

Issued in Washington, DC, on May 6, 2016, under authority delegated in 49 CFR 1.97.
Alan K. Mayberry,
Acting Associate Administrator for Pipeline Safety.

[FR Doc. 2016-11119 Filed 5-10-16; 8:45 am]

BILLING CODE 4910-60-P